DEPARTMENT OF THE INTERIOR

Office of the Secretary

[Docket No. ONRR-2012-0003; DS63600000 DR2PS0000.PX8000 145D0102R2]

U.S. Extractive Industries Transparency Initiative Multi-Stakeholder Group (USEITI MSG) Advisory Committee Meetings Change Notice

AGENCY: Policy, Management and Budget, Interior.

ACTION: Notice.

SUMMARY: This notice announces location and date changes to the upcoming meetings of the United States Extractive Industries Transparency Initiative (USEITI) Multi-Stakeholder Group (MSG) Advisory Committee. The location for the September 9-11, 2014, meeting has changed and the November 18-20, 2014, meeting has been rescheduled.

Dates and Times: The November 18-20, 2014, meeting has been rescheduled to December 10-11, 2014. Both the September and December meetings will occur in-person from 9:30 a.m. to 5:00 p.m. Eastern Time on all days, unless otherwise indicated at www.doi.gov/eiti/faca, where agendas, meeting logistics, and meeting materials will be posted.

ADDRESSES: Both meetings will take place at the U.S. Department of the Interior Steward Lee Udall Building located at 1849 C Street NW., Washington, DC 20240. The September 9-11, 2014, meeting will be held in the South Penthouse, and the December 10-11, 2014, meeting will be held in the North Penthouse. Members of the public may attend in person or participate remotely by viewing documents and presentations on-line via WebEx at http://bit.ly/1cR9W6t and listening to the proceedings at telephone number 1-866-707-0640, passcode: 1500538.

FOR FURTHER INFORMATION CONTACT: Rosita Compton Christian, USEITI Secretariat; 1849 C Street NW., MS-4211, Washington, DC 20240. You may also contact the USEITI Secretariat via email at useiti@ios.doi.gov, by phone at 202-208-0272, or by fax at 202-513-0682.

SUPPLEMENTARY INFORMATION: The U.S. Department of the Interior established the USEITI Advisory Committee (Committee) on July 26, 2012, to serve as the initial USEITI multi-stakeholder group. More information about the Committee, including its charter, can be found at www.doi.gov/eiti/faca.

The agenda for the September meeting will include a review and discussion of Subcommittee action items and an introduction of the Independent Administrator. The agenda for the December meeting will include a presentation of the Independent Administrator's inception report, a review of the work-plan to meet all EITI requirements, and planning for 2015 activities.

The final agendas and materials for all meetings will be posted on the USEITI MSG Web site at www.doi.gov/eiti/faca. All Committee meetings are open to the public.

Whenever possible, we encourage those participating by telephone to gather in conference rooms in order to share teleconference lines. Please plan to dial into the meeting and/or log into to WebEx at least 10-15 minutes prior to the scheduled start time in order to avoid possible technical difficulties. Individuals with special needs will be accommodated whenever possible. If you require special assistance (such as an interpreter for the hearing impaired), please notify Interior staff in advance of the meeting at 202-208-0272 or via email at useiti@ios.doi.gov.

The minutes from these proceedings will be posted on USEITI MSG Web site at http://www.doi.gov/eiti/faca and will also be available for public inspection and copying at our office in the Main Interior Building in Washington, DC, by contacting Interior staff at useiti@ios.doi.gov or by telephone at 202-208-0272. For more information on USEITI, visit http://www.doi.gov/eiti.

Dated: June 23, 2014.
Amy Holley,
Chief of Staff—Policy, Management and Budget, Department of the Interior.

[FR Doc. 2014-15812 Filed 7-7-14; 8:45 am]

BILLING CODE 4310-T2-P